DEPARTMENT OF HEALTH AND HUMAN SERVICES

Administration for Children and Families

Family Violence Prevention and Services/Grants for Domestic Violence Shelters/Grants to Native American Tribes (Including Alaska Native Villages) and Tribal Organizations

Program Office: Administration on Children, Youth and Families (ACYF), Family and Youth Services Bureau (FYSB).

Program Announcement Number: HHS-2010-ACF-ACYF-FVPS-0015.

Announcement Title: Family Violence Prevention and Services/Grants for Domestic Violence Shelters/Grants to Native American Tribes (including Alaska Native Villages) and Tribal Organizations.

CFDA Number: 93.671.

Due Date for Applications: April 15, 2010.

This announcement was originally published on March 16, 2010 on the Administration for Children and Families' (ACF) Funding Opportunities Web site and may be accessed in a pdf format at http://www.acf.hhs.gov/grants/open/foa/view/hhs-2010-acf-acyf-fvps-0015.

Executive Summary: This announcement governs the proposed award of formula grants under the Family Violence Prevention and Services Act (FVPSA) to Native American Tribes (including Alaska Native Villages) and Tribal organizations. The purpose of these grants is to assist Tribes in establishing, maintaining, and expanding programs and projects to prevent family violence and to provide immediate shelter and related assistance for victims of family violence and their dependents (42 U.S.C. 10401).

This announcement sets forth the application requirements, the application process, and other administrative and fiscal requirements for grants in Fiscal Year (FY) 2010. Grantees are to be mindful that although the expenditure period for grants is a two-year period, an application is required every year to provide continuity in the provision of services. (See Section II. Award Information, Expenditure Periods.)

I. Description

Legislative Authority: Fiscal Year 2010 grant awards are authorized by the Family Violence Prevention and Services Act, 42 U.S.C. 10401 through 10421 (extended by the Department of Health and Human Services Appropriations Act, 2010, Public Law 111-117, and/or any subsequent pertinent legal authorities).

Background

The purpose of this legislation is to assist Tribes, Tribal organizations, nonprofit private organizations approved by Tribes and States in supporting the establishment, maintenance, and expansion of programs and projects to prevent incidents of family violence and to provide immediate shelter and related assistance for victims of family violence and their dependents. Tribes face unique circumstances and obstacles when responding to family violence. The particular legal relationship of the United States to Indian Tribes creates a Federal trust responsibility to assist Tribal governments in safeguarding the lives of Indian victims of family violence.

During FY 2009, the Department of Health and Human Services (HHS) made 193 grants to States and Tribes or Tribal organizations. HHS also made 53 family violence grant awards to non-profit State Domestic Violence Coalitions. In addition, HHS supports the Sacred Circle, National Resource Center to End Violence Against Native Women.

General Grant Program Requirements for Tribes or Tribal Organizations

Client Confidentiality

FVPSA programs must establish or implement policies and protocols for maintaining the safety and confidentiality of the adult victims of domestic violence and their children whom they serve. It is essential that the confidentiality of individuals receiving FVPSA services be protected.

Consequently, when providing statistical data on program activities and program services, individual identifiers of client records will not be used by Tribes, Tribal organizations, the State, or other FVPSA grantees or subgrantees. The address or location of any FVPSA-funded shelter facility will, except with written authorization of the person or persons responsible for the operation of such shelter, not be made public and the confidentiality of records pertaining to any individual provided family violence prevention and treatment services by any FVPSA-funded program will be strictly maintained (42 U.S.C. 10402(a)(2)(E)).

Confidentiality requirements have been strengthened and clarified with the passage of the Violence Against Women and Department of Justice Reauthorization Act of 2005 (Pub. L. 109-162). In the interest of establishing a consistent Federal standard for domestic violence programs, HHS follows the confidentiality provisions and definition of “personally identifying information” in sections 40002(b)(2) and 40002(a)(18) of the Violence Against Women Act (VAWA) of 1994 (42 U.S.C. 13925(b)(2) and 42 U.S.C. 13925(a)(18)) as a more detailed guidance for grantees about how to comply with the FVPSA confidentiality obligations, and requires FVPSA-funded programs to comply with the VAWA confidentiality provisions.

No personally identifying client-level data may be shared with a third party, regardless of encryption, hashing or other data security measures, without first obtaining a written, reasonably time-limited consent to release as described in section 40002(b)(2) of the Violence Against Women Act of 1994. A client's consent to the release of personal information must also be informed, which includes the client's receipt of information about the possible risks of releasing information to the third party in question. Additionally, all consents must be voluntary and cannot be or appear to be a precondition for receiving services.

FYSB further requires that grantees only collect unduplicated data for each program. The count should be within a single program only. FYSB acknowledges the count will be duplicated across programs statewide. Grantees may share aggregate data and non-identifying demographic information.

The Importance of Coordinated, Accessible Services

The impacts of family violence may include physical injury and death of primary or secondary victims, psychological trauma, isolation from family and friends, harm to children living with a parent or caretaker who is either experiencing or perpetrating family violence, increased fear, reduced mobility, damaged credit, employment and financial instability, homelessness, substance abuse, chronic illnesses, and a host of other health and related mental health consequences. The physical and cultural obstacles existing in much of Tribal communities compound the basic dynamics of family violence. Barriers such as the isolation of vast rural areas, the concern for safety in isolated settings, lack of housing and shelter options, and the transportation requirements over long distances heighten the need for the coordination of the services through an often limited delivery system.

To help bring about a more effective response to the problem of family violence, HHS urges Tribes and Tribal organizations receiving funds under this grant announcement to coordinate activities funded under this grant with other new and existing resources for the prevention of family violence and related issues.

To serve victims most in need and to comply with Federal law, programs and activities funded in whole or in part with FVPSA funds must not discriminate on the basis of age, handicap, sex, race, color, national origin or religion (See 42 U.S.C. 10406). The HHS Office for Civil Rights provides guidance to grantees in complying with these nondiscrimination requirements. Moreover, in addition to being widely accessible, all assistance must be provided on a voluntary basis; receipt of shelter or housing must not be conditioned on participation in supportive services.

Annual Tribal Grantee Meeting

At least one FVPSA grant administrator per Tribal organization should expect to attend the annual Tribal Grantee Meeting. Subsequent correspondence will advise the Tribal FVPSA Administrators of the date, time, and location of the grantee meeting.

Definitions

Tribes and Tribal organizations should use the following definitions in carrying out their programs. The definitions are found in 42 U.S.C. 10421.

Family Violence: Any act, or threatened act, of violence, including any forceful detention of an individual, which (a) results or threatens to result in physical injury and (b) is committed by a person against another individual (including an elderly person) to whom such person is, or was, related by blood or marriage, or otherwise legally related, or with whom such person is, or was, lawfully residing.

Indian Tribe: “Indian Tribe” means any Indian Tribe, band, nation, or other organized group or community, including any Alaska Native village or regional or village corporation as defined in or established pursuant to the Alaska Native Claims Settlement Act (43 U.S.C. 1601 et seq.), which is recognized as eligible for the special programs and services provided by the United States to Indians because of their status as Indians (25 U.S.C. 450b(e)).

Tribal Organization: “Tribal Organization” means the recognized governing body of any Indian Tribe; any legally established organization of Indians which is controlled, sanctioned, or chartered by such governing body or which is democratically elected by the adult members of the Indian community to be served by such organization and which includes the maximum participation of Indians in all phases of its activities. In any case where a contract is let or grant made to an organization to perform services benefiting more than one Indian Tribe, the approval of each such Indian Tribe shall be a prerequisite to the letting or making of such contract or grant (25 U.S.C. 450b(l)).

Shelter: The provision of temporary refuge and related assistance in compliance with applicable State law and regulation governing the provision, on a regular basis, of shelter, safe homes, meals, and related assistance to victims of family violence and their dependents.

Related assistance: The provision of direct assistance to victims of family violence and their dependents for the purpose of preventing further violence, helping such victims to gain access to civil and criminal courts and other community services, facilitating the efforts of such victims to make decisions concerning their lives in the interest of safety, and assisting such victims in healing from the effects of the violence. Related assistance includes:

(1) Prevention services such as outreach and prevention services for victims and their children, assistance to children who witness domestic violence, employment training, parenting, and other educational services for victims and their children, preventive health services within domestic violence programs (including services promoting nutrition, disease prevention, exercise, and prevention of substance abuse), domestic violence prevention programs for school-age children, family violence public awareness campaigns, and violence prevention counseling services to abusers;

(2) Counseling with respect to family violence, counseling or other supportive services by peers individually or in groups, and referral to community social services;

(3) Transportation, technical assistance with respect to obtaining financial assistance under Federal and State programs, and referrals for appropriate health care services (including alcohol and drug abuse treatment), but shall not include reimbursement for any health care services;

(4) Legal advocacy to provide victims with information and assistance through the civil and criminal courts, and legal assistance; or

(5) Children's counseling and support services, child care services for children who are victims of family violence or the dependents of such victims, and children who witness domestic violence.

II. Funds Available

Subject to the availability of Federal appropriations and as authorized by law, in FY 2010, HHS will make available to Tribes and Tribal organizations grant funds as described in this announcement. In separate announcements, HHS will make available funds to States for providing immediate shelter and related assistance to victims of family violence and their dependents and funds for State Domestic Violence Coalitions to continue their work within the domestic violence community by providing technical assistance and training, advocacy services, and other activities. These announcements are available at 74 FR 15273 (States— http://www.acf.hhs.gov/grants/closed/HHS-2009-ACF-ACYF-FVPS-0035.html) and at 74 FR 15387 (Coalitions— http://www.acf.hhs.gov/grants/closed/HHS-2009-ACF-ACYF-SDVC-0030.html). The FVPSA expired on September 30, 2008. Its reauthorization could introduce new statutory or administrative requirements impacting grantees.

Tribal Allocations

In computing Tribal allocations, FYSB will use the latest available population figures from the Census Bureau. The latest Census population counts may be viewed at http://www.census.gov. Where Census Bureau data are unavailable, FYSB will use figures from the Bureau of Indian Affairs' (BIA's) Indian Population and Labor Force Report, which is available at http://www.bia.gov/WhatWeDo/Knowledge/Reports/index.htm. The funding formula for the allocation of family violence funds is based upon the Tribe's population. The formula has two parts, the Tribal population base allocation and a population category allocation.

The base allocations are determined by a Tribe's population and a funds allocation schedule. Tribes with populations between 1,500 to 50,000 people receive a $2,500 base allocation for the first 1,500 people. For each additional 1,000 people above the 1,500 person minimum, a Tribe's base allocation is increased $1,000. Tribes with populations between 50,001 to 100,000 people receive base allocations of $125,000 and Tribes with a population of 100,001 to 150,000 receive a base allocation of $175,000.

Once the minimum amounts have been distributed to the Tribes that have applied for FVPSA funding, the ratio of the Tribal population category to the total of all base allocations is then considered in allocating the remainder of the funds. By establishing base amounts with distribution of proportional amounts for larger Tribes, FYSB is balancing the need for basic services for all Tribes with the greater demand for services among Tribes with larger populations. In FY 2009, actual grant awards ranged from $26,592 to $2,326,834.

Tribes are encouraged to apply for FVPSA funding as a consortium. Tribal consortia consist of groups of Tribes who agree to apply for and administer a single FVPSA grant with one Tribe or Tribal organization responsible for grant administration. In a Tribal consortium, the population of the Tribal Trust Land for all of the Tribes involved will be used to calculate the award amount. The allocations for each of the Tribes included in the consortium will be combined to determine the total grant for the consortium.

Expenditure Periods

The project period under this program announcement is 24 months. The FVPSA funds may be used for expenditures on and after October 1 of each fiscal year for which they are granted, and will be available for expenditure through September 30 of the following fiscal year; i.e., FY 2010 funds may be used for expenditures from October 1, 2009, through September 30, 2011. For example:

Award year (Federal fiscal year (FY)) | Project period (24 Months) | Application requirements and expenditure periods
FY 2010 | 10/01/2009—9/30/2011 | Regardless of the date the award is received, these funds may be expended by the grantee for obligations incurred since October 1, 2009. The funds may be expended through September 30, 2011.
FY 2011 | 10/01/2010—9/30/2012 | Regardless of the date the award is received, these funds may be expended by the grantee for obligations incurred since October 1, 2010. The funds may be expended through September 30, 2012.

Re-allotted funds, if any, are available for expenditure until the end of the fiscal year following the fiscal year that the funds became available for re-allotment. FY 2010 grant funds that are made available to Tribes and Tribal organizations through re-allotment must be expended by the grantee no later than September 30, 2011.

III. Eligibility

Tribes and Tribal organizations are eligible for funding under this program if they meet the definition of “Indian Tribe” or “Tribal organization” set forth in section 450B of Title 25 and if they are able to demonstrate their capacity to carry out a family violence prevention and services program. Any Tribe or Tribal organization that believes it meets the eligibility criteria and should be included in the list of eligible Tribes, should provide supportive documentation and a request for inclusion in its application. (See Content of Application Submission in Section IV. of this announcement.) Tribes may apply singularly or as a consortium. In addition, a non-profit private organization or Tribal organization, approved by a Tribe for the operation of a family violence shelter or program on a reservation is eligible for funding.

Additional Information on Eligibility

D-U-N-S Requirement

All applicants must have a D&B Data Universal Numbering System (D-U-N-S) number. A D-U-N-S number is required whether an applicant is submitting a paper application or using the Government-wide electronic portal, Grants.gov. A D-U-N-S number is required for every application for a new award or renewal/continuation of an award, including applications or plans under formula, entitlement, and block grant programs. A D-U-N-S number may be acquired at no cost online at http://www.dnb.com. To acquire a D-U-N-S and U.S. Virgin Islands: 1-866-705-5711; Alaska and Puerto Rico: 1-800-234-3867 (Select Option 2, then Option 1) Monday-Friday 7 AM to 8 PM C.S.T.

IV. Application Requirements for Tribes and Tribal Organizations

Content of Application Submission

The application from the Tribe or Tribal organization must be signed by the Chief Executive Officer or Tribal Chairperson of the applicant organization.

The cover letter of the application should include the following information:

(1) The name of the Tribe or Tribal organization applying for the FVPSA grant and the mailing address.

(2) The name of the Chief Program Official designated as responsible for administering funds under FVPSA, and the telephone number, fax number, and if available, an e-mail address.

(3) The name of the program person designated to administer coordination of the related programs, and the telephone number, fax number, and if available, an e-mail address.

(4) The Employee Identification Number (EIN) of the applicant organization submitting the application.

(5) The D-U-N-S number of the applicant organization submitting the application. See preceding D-U-N-S Requirement section for additional information.

The content of the application should include the following:

(1) A copy of a current Tribal resolution or an equivalent document that verifies Tribal approval of the application being submitted. The resolution or other document should, at minimum, cover the entirety of FY 2010 and should state that the designated organization or agency has the authority to submit an application on behalf of the individuals in the Tribe(s) and to administer programs and activities funded pursuant to 42 U.S.C. 10402(b)(2)). A Tribe may also opt to include in its resolution or equivalent document an extended approval period of up to four years, or through fiscal year 2013.

Note: An applicant that received no funding in the immediately preceding fiscal year must submit a new Tribal resolution or its equivalent. An applicant funded as part of a consortium in the immediately preceding year that is now seeking funds as a single Tribe must also submit a new resolution or its equivalent. Likewise, an applicant funded as a single Tribe in the immediately preceding fiscal year that is now seeking funding as a part of a consortium must submit a new resolution or its equivalent.

(2) A description of the procedures designed to involve knowledgeable individuals and interested organizations in providing services under FVPSA (42 U.S.C. 10402(b)(2)). For example, knowledgeable individuals and interested organizations may include: Tribal officials or social services staff involved in child abuse or family violence prevention, Tribal law enforcement officials, representatives of State or Tribal Domestic Violence Coalitions, and operators of domestic violence shelters and service programs.

(3) A description of the applicant's operation of and/or capacity to carry out a family violence prevention and services program. This might be demonstrated in ways such as the following:

(a) The current operation of a shelter, safe house, or family violence prevention program;

(b) The establishment of joint or collaborative service agreements with a local public agency or a private non-profit agency for the operation of family violence prevention activities or services; or

(c) The operation of social services programs as evidenced by receipt of BIA contracts awarded under Public Law 93-638; Title II Indian Child Welfare grants from BIA; Child Welfare Services grants under Title IV-B of the Social Security Act; or Family Preservation and Family Support grants under Title IV-B of the Social Security Act.

(4) A description of the services to be provided, how the applicant organization plans to use the grant funds to provide the direct services, to whom the services will be provided, and the expected results of the services.

(5) Documentation of the policies and procedures developed and implemented, including copies of the policies and procedures, to ensure that individual identifiers of client records will not be used when providing statistical data on program activities and program services and that the confidentiality of records pertaining to any individual provided domestic violence prevention or treatment services by any FVPSA-supported program will be strictly maintained (42 U.S.C. 10402(a)(2)(E)).

(6) Documentation of the law or procedure which has been implemented for the eviction of an abusing spouse from a shared household (42 U.S.C. 10402(a)(F)).

(Note: As required by the Paperwork Reduction Act of 1995, Pub. L. 104-13, the public reporting burden for the project description is estimated to average 10-hours-per-response, including the time for reviewing instructions, gathering and maintaining the data needed, and reviewing the collection information. The Project Description information collection is approved under OMB control number 0970-0280, which expires on December 31, 2011. An agency may not conduct or sponsor, and a person is not required to respond to, a collection of information unless it displays a currently valid OMB control number.)

Assurances (See Attachment A)

Each application must provide the assurances in Attachment A. The assurances may be included in the body of the narrative application or Attachment A may be printed, signed, and included in the application as an attachment.

Certifications

All applications must submit or comply with the required certifications found in Attachments B, C, and D as follows:

Anti-Lobbying Certification and Disclosure Form (See Attachment B): Applicants Should Sign and Return the Certification With Their Application

Certification Regarding Environmental Tobacco Smoke (See Attachment C): By signing and submitting the application, applicants are accepting and agreeing to all terms and conditions of the certification.

Certification Regarding Drug-Free Workplace Requirements (See Attachment D): By signing and submitting the application, applicants are accepting and agreeing to all terms and conditions of the certification.

These certifications can also be found at http://www.acf.hhs.gov/programs/ofs/forms.htm.

Notification Under Executive Order 12372

The review and comment provisions of the Executive Order (E.O.) and Part 100 do not apply. Federally recognized Tribes are exempt from all provisions and requirements of E.O. 12372.

Applications should be sent to: Family Violence Prevention and Services Program, Family and Youth Services Bureau, Administration on Children, Youth and Families, Administration for Children and Families, Attention: Shena Williams, 1250 Maryland Avenue, SW., Suite 8213, Washington, DC 20024.

V. Approval/Disapproval of a Tribal or Tribal Organization Application

The Secretary of HHS will approve any application that meets the requirements of FVPSA and this announcement. The Secretary will not disapprove an application except after reasonable notice of the Secretary's intention to disapprove has been provided to the applicant and after a six-month period providing an opportunity for applicant to correct any deficiencies. The notice of intention to disapprove will be provided to the applicant within 45 days of the date of the application.

VI. Reporting Requirements

Performance Reports

ACF grantees must submit Performance Progress Reports using a standardized format, the SF-PPR. The SF-PPR is the standard Government-wide performance progress reporting format used by Federal agencies to collect performance information from recipients. A version of the SF-PPR has been tailored for grantees under this announcement as the ACYF-FYSB-FVPS-SF-PPR. A Program Performance Report must be filed with HHS describing the activities carried out, and include an assessment of the effectiveness of those activities in achieving the purposes of the grant. A section of this performance report must be completed by each grantee or sub-grantee that performed the direct services contemplated in the application certifying performance of such services. Consortia grantees should compile performance reports into a comprehensive report for submission. A copy of the ACYF-FYSB-FVPS-SF-PPR is available on the Family and Youth Services Bureau Web site at http://www.acf.hhs.gov/programs/fysb/content/forms/reportforms/fv/ACF_FYSB_FVPSA_Tribal_SF_PPR_v1_0.pdf.

Performance reports for Tribes and Tribal organizations are due on an annual basis at the end of the calendar year (December 29). Performance reports should be sent to: Family Violence Prevention and Services Program, Family and Youth Services Bureau, Administration on Children, Youth and Families, Administration for Children and Families, Attention: Shena Williams, 1250 Maryland Avenue, SW., Room 8213, Washington, DC 20024 .

Financial Status Reports

Grantees must submit annual Financial Status Reports. The first SF-269A for funding under this announcement, which is due December 29, 2010, is based on the Federal FY and will cover October 1, 2009, through September 30, 2010. The final SF-269A for funding under this announcement, which is due December 29, 2011, will cover October 1, 2010, through September 30, 2011. The SF 269A can be found at http://www.whitehouse.gov/omb/assets/omb/grants/sf269.pdf.

Completed reports may be mailed to: Kalika France, Division of Mandatory Grants, Office of Grants Management, Administration for Children and Families, 370 L'Enfant Promenade, SW., 6th Floor, Washington, DC 20447.

Grantees are encouraged to submit their reports online through the Online Data Collection (OLDC) system at the following address: https://extranet.acf.hhs.gov/ssi/.

Failure to submit reports on time may be a basis for withholding grant funds, suspension, or termination of the grant. In addition, all funds reported after the obligation period will be recouped.

VII. Administrative and National Policy Requirements

Grantees are subject to the requirements in 45 CFR part 74 (non-Governmental) or 45 CFR part 92 (Governmental).

Direct Federal grants, sub-award funds, or contracts under this ACF program shall not be used to support inherently religious activities such as religious instruction, worship, or proselytization. Therefore, organizations must take steps to separate, in time or location, their inherently religious activities from the services funded under this program. Regulations pertaining to the Equal Treatment for Faith-Based Organizations, which includes the prohibition against Federal funding of inherently religious activities, can be found at the HHS Web site at http://www.hhs.gov/fbci/waisgate21.pdf.

VIII. Other Information

For Further Information Contact: Shena Williams at (202) 205-5932 or e-mail at shena.williams@acf.hhs.gov.

Dated: March 19, 2010.
Bryan Samuels,
Commissioner, Administration on Children, Youth and Families.

Attachments: Required Assurances and Certifications:

A. Assurances

B. Certification Regarding Lobbying

C. Certification Regarding Environmental Tobacco Smoke

D. Drug-Free Workplace Requirements

Attachment A—Assurances Of Compliance With Grant Requirements

The grantee certifies that it will comply with the following:

(1) Not less than 70 percent of the funds distributed shall be used for immediate shelter and related assistance, as defined in 42 U.S.C. 10421(4) and (5), to victims of family violence and their dependents and not less than 25 percent of the funds distributed shall be used to provide related assistance as defined in 42 U.S.C. 10421(5) (42 U.S.C. 10402(g)).

(2) Grant funds made available under FVPSA will not be used as direct payment to any victim or dependent of a victim of family violence (42 U.S.C. 10402(d)).

(3) No income eligibility standard will be imposed on individuals receiving assistance or services supported with funds appropriated to carry out FVPSA (42 U.S.C. 10402(e)).

(4) The address or location of any shelter or facility assisted under FVPSA will not be made public, except with the written authorization of the person or persons responsible for the operations of such shelter (42 U.S.C. 10402(a)(2)(E)).

(5) The applicant will comply with FVPSA confidentiality requirements and must provide assurances that individual identifiers of client records will not be used when providing statistical data on program activities and program services and that the confidentiality of records pertaining to any individual provided domestic violence prevention or treatment services by any FVPSA-supported program will be strictly maintained (42 U.S.C. 10402(a)(2)(E)).

(6) That a law or procedure, such as a process for obtaining an order of protection, has been implemented for the eviction of an abusing spouse from a shared household (42 U.S.C. 10402(a)(2)(F)).

(7) That all grants, programs or other activities funded by the State in whole or in part with funds made available under FVPSA will prohibit discrimination on the basis of age, handicap, sex, race, color, national origin or religion (42 U.S.C. 10406).

(8) That the applicant will comply with the applicable Departmental recordkeeping and reporting requirements and general requirements for the administration of grants under 45 CFR Part 92.

Chief Program Official

Title

Organization

Attachment B—Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, Title 31, U.S. Code. Any person who fails to file the required statement shall be subject to a civil penalty of not less than $10,000 and not more than $100,000 for each such failure.

Signature

Title

Organization

Attachment C—Certification Regarding Environmental Tobacco Smoke

The Pro-Children Act of 2001, 20 U.S.C. 7181 through 7184, imposes restrictions on smoking in facilities where Federally funded children's services are provided. HHS grants are subject to these requirements only if they meet the Act's specified coverage. The Act specifies that smoking is prohibited in any indoor facility (owned, leased, or contracted for) used for the routine or regular provision of kindergarten, elementary, or secondary education or library services to children under the age of 18. In addition, smoking is prohibited in any indoor facility or portion of a facility (owned, leased, or contracted for) used for the routine or regular provision of federally funded health care, day care, or early childhood development, including Head Start services to children under the age of 18. The statutory prohibition also applies if such facilities are constructed, operated, or maintained with Federal funds. The statute does not apply to children's services provided in private residences, facilities funded solely by Medicare or Medicaid funds, portions of facilities used for inpatient drug or alcohol treatment, or facilities where WIC coupons are redeemed. Failure to comply with the provisions of the law may result in the imposition of a civil monetary penalty of up to $1,000 per violation and/or the imposition of an administrative compliance order on the responsible entity.

Attachment D—Certification Regarding Drug-Free Workplace Requirements

This certification is required by the regulations implementing the Drug-Free Workplace Act of 1988: 45 CFR Part 76, Subpart, F. Sections 76.630(c) and (d)(2) and 76.645(a)(1) and (b) provide that a Federal agency may designate a central receipt point for state-wide and state agency-wide certifications, and for notification of criminal drug convictions. For the Department of Health and Human Services, the central point is: Division of Grants Management and Oversight, Office of Management and Acquisition, Department of Health and Human Services, Room 517-D, 200 Independence Avenue, SW Washington, DC 20201.

Certification Regarding Drug-Free Workplace Requirements (Instructions for Certification)

(1) By signing and/or submitting this application or grant agreement, the grantee is providing the certification set out below.

(2) The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

(3) For grantees other than individuals, Alternate I applies.

(4) For grantees who are individuals, Alternate II applies.

(5) Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

(6) Workplace identifications must include the actual address of buildings (or parts of buildings) or other sites where work under the grant takes place. Categorical descriptions may be used (e.g., all vehicles of a mass transit authority or State highway department while in operation, State employees in each local unemployment office, performers in concert halls or radio studios).

(7) If the workplace identified to the agency changes during the performance of the grant, the grantee shall inform the agency of the change(s), if it previously identified the workplaces in question (see paragraph five).

(8) Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(1) Publishing a statement notifying employees that the unlawful manufacture, distribution, dispensing, possession, or use of a controlled substance is prohibited in the grantee's workplace and specifying the actions that will be taken against employees for violation of such prohibition;

(2) Establishing an ongoing drug-free awareness program to inform employees about—

(a) The dangers of drug abuse in the workplace;

(b) The grantee's policy of maintaining a drug-free workplace;

(c) Any available drug counseling, rehabilitation, and employee assistance programs; and

(d) The penalties that may be imposed upon employees for drug abuse violations occurring in the workplace;

(3) Making it a requirement that each employee to be engaged in the performance of the grant be given a copy of the statement required by paragraph (a);

(4) Notifying the employee in the statement required by paragraph (a) that, as a condition of employment under the grant, the employee will—

(a) Abide by the terms of the statement; and

(b) Notify the employer in writing of his or her conviction for a violation of a criminal drug statute occurring in the workplace no later than five calendar days after such conviction;

(5) Notifying the agency in writing, within 10 calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(6) Taking one of the following actions, within 30 calendar days of receiving notice under paragraph (d)(2), with respect to any employee who is so convicted—

(a) Taking appropriate personnel action against such an employee, up to and including termination, consistent with the requirements of the Rehabilitation Act of 1973, as amended; or

(b) Requiring such employee to participate satisfactorily in a drug abuse assistance or rehabilitation program approved for such purposes by a Federal, State, or local health, law enforcement, or other appropriate agency;

(7) Making a good faith effort to continue to maintain a drug-free workplace through implementation of paragraphs (a), (b), (c), (d), (e) and (f).

The grantee may insert in the space provided below the site(s) for the performance of work done in connection with the specific grant:

Place of Performance (Street address, city, county, state, zip code)

Check if there are workplaces on file that are not identified here.

Alternate II. (Grantees Who Are Individuals)

(1) The grantee certifies that, as a condition of the grant, he or she will not engage in the unlawful manufacture, distribution, dispensing, possession, or use of a controlled substance in conducting any activity with the grant;

(2) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

[FR Doc. 2010-6734 Filed 3-25-10; 8:45 am]

BILLING CODE 4184-01-P